DEPARTMENT OF DEFENSE

Department of the Air Force

Notice Is Given of the Names of Members of a Performance Review Board for the Department of the Air Force

ACTION: Notice.

SUMMARY: Notice is given of the names of members of a Performance Review Board for the Department of the Air Force.

DATES: Effective Date: November 18, 2008.

SUPPLEMENTARY INFORMATION: Section 4314(c)(1) through (5) of Title 5, U.S.C., requires each agency to establish, in accordance with regulations, one or more Senior Executive Service performance review boards. The board(s) shall review and evaluate the initial appraisal of senior executives' performance by supervisors and make recommendations to the appointing authority or rating official relative to the performance of these executives.

The members of the 2008 Performance Review Board for the U.S. Air Force are:

1. Board President—Gen Stephen R. Lorenz, Commander, Air Education and Training Command.

2. Lt Gen Philip M. Breedlove, Commander, 3rd Air Force.

3. Mr. Robert E. Corsi, Jr., Deputy Administrative Assistant to the Secretary of the Air Force.

4. Mr. Timothy A. Beyland, Assistant Deputy Chief of Staff for Manpower and Personnel.

5. Mr. Michael A. Aimone, Assistant Deputy Chief of Staff for Logistics, Installations and Mission Support.

6. Mr. Kenneth K. Dumm, Director of Intelligence, Surveillance and Reconnaissance Plans and Resources, Deputy Chief of Staff for Intelligence, Surveillance and Reconnaissance.

7. Ms. Tawanda R. Rooney, Director, Intelligence Systems Support Office.

8. Ms. Kathleen I. Ferguson, Deputy Assistant Secretary of the Air Force for Installations, Office of the Assistant Secretary of the Air Force for Installations, Environment and Logistics.

9. Mr. John T. Manclark, Director of Test and Evaluation.

10. Mr. Michael L. Rhodes, Director, Acting Director of Administration and Management (OSD).

11. Mr. Charlie E. Williams, Jr., Director, Defense Contract Management Agency.

12. Mr. Jeffrey S. White, Director, Human Capital Strategy/Deputy to Deputy Under Secretary of the Army.

Additionally, all career status Air Force Tier 3 SES members not included in the above list are eligible to serve on the 2008 Performance Review Board and are hereby nominated for inclusion on an ad hoc basis in the event of absence(s).

FOR FURTHER INFORMATION: Please direct any written comments or requests for information to Ms. Pereuna Johnson, Chief, Sustainment Division, Senior Executive Management, AF/DPSS, 1040 Air Force Pentagon, Washington, DC 20330-1040 (PH: 703-695-7677; or via e-mail at pereuna.johnson@pentagon.af.mil.

Bao-Anh Trinh,
Air Force Federal Register Liaison Officer.

[FR Doc. E8-26231 Filed 11-3-08; 8:45 am]

BILLING CODE 5001-05-P